DEPARTMENT OF THE INTERIOR

National Park Service

Notice of Inventory Completion: Oregon State Museum of Anthropology, University of Oregon, Eugene, OR

AGENCY: National Park Service, Interior.

ACTION: Notice.

SUMMARY: Pursuant to the Native American Graves Protection and Repatriation Act (NAGPRA), the Oregon State Museum of Anthropology, University of Oregon, Eugene, OR (museum that has control of the cultural items), determined that the physical remains of nine individuals of Native American ancestry and four associated funerary objects in the museum's collections, described below in Information about cultural items, are culturally affiliated with the Confederated Tribes of the Coos, Lower Umpqua and Siuslaw Indians of Oregon; Confederated Tribes of the Grand Ronde Community of Oregon; Confederated Tribes of the Siletz Reservation, Oregon; and Coquille Tribe of Oregon.

The National Park Service publishes this notice on behalf of the museum as part of the National Park Service's administrative responsibilities under NAGPRA. The museum is solely responsible for information and determinations stated in this notice. The National Park Service is not responsible for the museum's determinations.

Information about NAGPRA is available online at http://www.cr.nps.gov/nagpra.

DATES: Repatriation of the cultural items to the Indian tribes listed above in Summary may proceed after July 1, 2005 if no additional claimants come forward. Representatives of any other Indian tribe that believes itself to be culturally affiliated with the cultural items should contact the museum before July 1, 2005.

SUPPLEMENTARY INFORMATION: Authority. 25 U.S.C. 3001 et seq. and 43 CFR Part 10.

Contact. Contact C. Melvin Aikens, Oregon State Museum of Anthropology, 1224 University of Oregon, Eugene, OR 97403-1224, telephone (541) 346-5115, regarding determinations stated in this notice or to claim the cultural items described in this notice.

Consultation. The museum identified the cultural items and the cultural affiliation of the cultural items in consultation with representatives of the Confederated Tribes of the Coos, Lower Umpqua and Siuslaw Indians of Oregon; Confederated Tribes of the Grand Ronde Community of Oregon; Confederated Tribes of the Siletz Reservation, Oregon; and Coquille Tribe of Oregon.

Information about cultural items. At an unknown date, human remains representing a minimum of one individual were removed from the “Coos Bay area” and donated to the museum by a donor whose name is withheld by the museum. The status of the land at the time of removal is unknown. The Oregon State Museum accessioned the material into the collection at an unknown date. A map related to the human remains indicates the human remains were recovered from northwest of North Bend, Coos County, OR. No known individual was identified. No associated funerary objects are present.

In 1933, human remains representing three individuals were removed by University of Oregon and amateur archeologists during legally authorized excavations from a village site near North Bend, Coos County, OR. The status of the land at the time of removal is unknown. Materials stored with the human remains may have been associated with the burial and are listed in the accession record as “shell-mound refuse.” No known individuals were identified. The two lots of associated funerary objects are one dentalium shell and fragments of shell, bone, and charred wood.

In 1934, human remains representing a minimum of two individuals were removed from the Coos Bay area, Coos County, OR, and were donated to the museum by a donor whose name is withheld by the museum. The status of the land at the time of removal is unknown. The Oregon State Museum accessioned the material into the collection in 1934. Euroamerican items that were associated with the human remains but not donated to the museum indicate a historic or proto-historic date for the remains. No known individuals were identified. No associated funerary objects are present.

Based on associated funerary objects, archeological context, and skeletal morphology, the human remains have been determined to be Native American. Historic documents, continuities of material culture, ethnographic sources, and oral history indicate the Coos people have occupied the Coos Bay area since precontact times.

In 1936, human remains representing a minimum of one individual were removed from Baker's Ranch, south of Heceta Head, Lane County, OR, by an unknown individual. The status of the land at the time of removal is unknown. The Oregon State Police brought the human remains to the museum, and the material was accessioned into the collection in 1936. No known individual was identified. The two associated funerary objects are one bone headscratcher and several unmodified sea lion bones.

In 1952, human remains representing a minimum of one individual were removed from the area of Mapleton, Lane County, OR, and were donated to the museum by a donor whose name is withheld by the museum. The status of the land at the time of removal, is unknown. The Oregon State Museum accessioned the material into the collection in 1952. The remains of a fir post are recorded as being associated with the burial, but the post was not donated with the human remains. No known individual was identified. No associated funerary objects are present.

In 1979 or sometime before, human remains representing one individual were removed from an unrecorded shell mound a half-mile north of the Oregon House Hotel, near Heceta Head, Lane County, OR, and were donated to the museum by a donor whose name is withheld by the museum. The status of the land at the time of removal is unknown. The Oregon State Museum accessioned the material into the collection in 1979. No known individual was identified. No associated funerary objects are present.

Based on associated funerary objects, archeological context, and skeletal morphology, the human remains have been determined to be Native American. Historic documents, continuities of material culture, ethnographic sources, and oral history indicate the Siuslaw people have occupied the central Oregon coast area since precontact times.

Determinations. Under 25 U.S.C. 3003, museum officials determined that the human remains represent the physical remains of nine individuals of Native American ancestry. Museum officials determined that the four objects are reasonably believed to have been placed with or near individual human remains at the time of death or later as part of the death rite or ceremony. Museum officials determined that the human remains and associated funerary objects are culturally affiliated with the Indian tribes listed in Summary.

Notification. The museum is responsible for sending a copy of this notice to the consulted Indian tribes listed above in Consultation.

Dated: May 20, 2005.
Paul Hoffman,
Deputy Assistant Secretary, Fish and Wildlife and Parks

[FR Doc. 05-10801 Filed 5-31-05; 8:45 am]

BILLING CODE 4312-50-S